DEPARTMENT OF COMMERCE

Foreign-Trade Zones Board

[B-25-2017]

Foreign-Trade Zone (FTZ) 39—Dallas-Fort Worth, Texas; Authorization of Production Activity, Valeo North America, Inc., d/b/a Valeo Compressor North America (Motor Vehicle Air-Conditioner Compressors), Dallas, Texas

On April 12, 2017, Valeo North America, Inc. d/b/a Valeo Compressor North America, submitted a notification of proposed production activity to the FTZ Board within FTZ 39—Site 1, in Dallas, Texas.

The notification was processed in accordance with the regulations of the FTZ Board (15 CFR part 400), including notice in the Federal Register inviting public comment (82 FR 26435, June 7, 2017). On August 15, 2017, the applicant was notified of the FTZ Board's decision that no further review of the activity is warranted at this time. The production activity described in the notification was authorized, subject to the FTZ Act and the FTZ Board's regulations, including Section 400.14.

Dated: August 24, 2017.
Andrew McGilvray,
Executive Secretary.

[FR Doc. 2017-18440 Filed 8-29-17; 8:45 am]

BILLING CODE 3510-DS-P